ENVIRONMENTAL PROTECTION AGENCY

[ER-FRL-9052-6]

Environmental Impact Statements; Notice of Availability

Responsible Agency: Office of Federal Activities, General Information 202-564-5632 or https://www.epa.gov/nepa.

Weekly receipt of Environmental Impact Statements (EIS)

Filed August 24, 2020, 10 a.m. EST Through August 31, 2020, 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200177, Draft, USFS, AK, South Revilla Integrated Resource Project, Comment Period Ends: 10/19/2020, Contact: Kristin Whisennand 406-626-2505.

EIS No. 20200178, Final, BLM, NV, Yellow Pine Solar Project, Review Period Ends: 10/05/2020, Contact: Whitney Wirthlin 702-515-5284.

EIS No. 20200179, Final, USFS, CA, Mitsubishi Cement Corporation South Quarry Plan of Operation, Review Period Ends: 10/05/2020, Contact: Scott Eliason 909-382-2830.

Amended Notice

EIS No. 20200139, Draft, FHWA, MD, I-495 & I-270 Managed Lanes Study Draft Environmental Impact Statement and Draft Section 4(f) Evaluation, Comment Period Ends: 11/09/2020, Contact: Jeanette Mar 410-779-7152. Revision to FR Notice Published 7/10/2020; Extending the Comment Period from 10/8/2020 to 11/9/2020.

Dated: August 31, 2020.
Cindy S. Barger,
Director, NEPA Compliance Division, Office of Federal Activities.

[FR Doc. 2020-19605 Filed 9-3-20; 8:45 am]

BILLING CODE 6560-50-P